FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington DC 20551-0001, not later than May 3, 2021.

A. Federal Reserve Bank of Chicago (Colette A. Fried, Assistant Vice President) 230 South LaSalle Street, Chicago, Illinois 60690-1414:

1. Suzanne Rooney, Hobe Sound, Florida; Michael Rooney, Hinsdale, Illinois; and Therese Rooney, Hinsdale, Illinois; together with Phillip Rooney, Hobe Sound, Florida, previously approved, to form the Rooney Family Control Group, a group acting in concert, to retain voting shares of FNBC of LaGrange and thereby indirectly retain voting shares of FNBC Bank and Trust, both of LaGrange, Illinois.

2. John R. Madden, as trustee of the Lenore Madden Marital Trust and the John R. Madden Revocable Trust, all of LaGrange, Illinois; Kiera Kelly, Evanston, Illinois; and Mary Hayes, LaGrange Park, Illinois; to join the Madden Family Control Group, a group acting in concert, to retain voting shares of Schaumburg Bancshares, and thereby indirectly retain voting shares of Heritage Bank of Schaumburg, both of Schaumburg, Illinois.

B. Federal Reserve Bank of St. Louis (Holly A. Rieser, Manager) P.O. Box 442, St. Louis, Missouri 63166-2034. Comments can also be sent electronically to Comments.applications@stls.frb.org:

1. Kimberly B. Brown and Barry K. Brown, both of Princeton, Kentucky; to retain voting shares of Fredonia Valley Bancorp, Inc., and thereby indirectly retain voting shares of Fredonia Valley Bank, both of Fredonia, Kentucky.

Board of Governors of the Federal Reserve System, April 13, 2021.
Ann Misback,
Secretary of the Board.

[FR Doc. 2021-07905 Filed 4-16-21; 8:45 am]

BILLING CODE P